DEPARTMENT OF THE TREASURY

Fiscal Service

Public Input on the Establishment of Financial Data Standards (Data Exchange)

AGENCY: Bureau of the Fiscal Service, Treasury.

ACTION: Notice and Request for Information.

SUMMARY: The Digital Accountability and Transparency Act of 2014 (DATA Act) was enacted for purposes that include expanding the Federal Funding Accountability and Transparency Act of 2006 (FFATA) to require the disclosure of direct Federal agency expenditures and information that links “Federal . . . spending information to programs of Federal agencies to enable taxpayers and policy makers to track Federal spending more effectively.” Public Law 113-101, 2(1). FFATA, as amended by the DATA Act, requires the Secretary of the Treasury (Treasury) and the Director of the Office of Management and Budget (OMB), in consultation with the heads of Federal agencies, to “establish Government-wide financial data standards for any Federal funds made available to or expended by Federal agencies and entities receiving Federal funds.” 31 U.S.C. 6101, note, § 4(a)(1). Treasury and OMB shall consult with public and private stakeholders in establishing the Government-wide financial data standards (data standards). 31 U.S.C. 6101, note, 4(d). The DATA Act provides that Treasury and OMB shall issue guidance to Federal agencies on the established data standards no later than one year after DATA Act enactment, i.e., by May 9, 2015. Under this Notice, Treasury asks for input from public and private stakeholders on several data standards topics and questions, specifically on data exchange, to better ensure the data standards to be established by Treasury and OMB are informed and useful, and to ensure compliance with DATA Act consultation requirements. Treasury will share all input or information received with OMB to ensure the proper establishment of data standards by Treasury and OMB, consistent with DATA Act requirements.

DATES: Submit comments on or before November 25, 2014.

ADDRESSES: You may submit comments, identified by docket FISCAL-2014-0004, using the following methods:

• Federal eRulemaking Portal: www.regulations.gov. Follow the instructions on the Web site for submitting comments.

• Mail: Ms. Ellen Hilburn, U.S. Department of the Treasury, Bureau of the Fiscal Service, 401 14th Street, Room 260F, Washington, DC 20227.

Instructions: All submissions received must include the agency name (“Bureau of the Fiscal Service”) and docket number FISCAL-2014-0004. In general, comments received will be published on Regulations.gov without change, including any business or personal information provided. Comments received will be available for public inspection and copying at the Treasury Department Library, Main Treasury Building, 1500 Pennsylvania Avenue NW., Washington, DC 20220. To visit the library, call (202) 622-0990 for an appointment. Comments received, including attachments and other supporting materials, are part of the public record and subject to public disclosure. Comments should also include: (1) The supporting rationale; and (2) alternative approaches, specific examples and additional options that should be considered, if any. Do not disclose any information in your comment or supporting materials that you consider confidential or inappropriate for public disclosure. Comments will not be edited to remove any identifying or contact information.

FOR FURTHER INFORMATION CONTACT: Christina Ho at (202) 622-0550 or Christina.Ho@treasury.gov, or Ellen Hilburn at (202) 874-5724 or Ellen.Hilburn@fiscal.treasury.gov.

SUPPLEMENTARY INFORMATION:

I. Background

FFATA requires OMB to ensure the existence and operation of a single, searchable Web site, accessible to the public at no cost, which includes specified spending information for each Federal award. 31 U.S.C. 6101, note, 2(b). Under FFATA, as amended by the DATA Act, Treasury, in consultation with OMB, is required to post additional specified information on the Web site that links Federal spending information with Federal agency appropriations and program activity information. 31 U.S.C. 6101, note, § 3. The current Web site is USASpending.gov, which was first launched in 2007. In February 2014, OMB designated Treasury as the Federal agency responsible for operating and supporting the USASpending.gov Web site. 31 U.S.C. 6101, note, 2(b)(3). Treasury's Bureau of the Fiscal Service administers this responsibility on behalf of Treasury.

The establishment of the data standards by Treasury and OMB will better ensure that USASpending.gov, or any successor system, is properly designed to provide “consistent, reliable, and searchable Government-wide spending data that is displayed accurately for taxpayers and policy makers” once the data standards are implemented. Public Law 113-101, 2(2). As a general rule, Federal agencies are required to report financial and payment information data in accordance with the data standards no later than two years after Treasury and OMB establish the data standards. 31 U.S.C. 6101, note, 4(c)(2). Thereafter, Treasury and OMB are required to ensure the data standards are applied to specified data made available on the Web site. 31 U.S.C. 6101, note, 4(c)(3). The establishment of informed and useful data standards is a predicate step, or building block, that will permit DATA Act requirements to be met, and DATA Act accountability and transparency purposes or goals to be realized.

Treasury recognizes the paramount importance of providing the American public, Federal agencies, local and state governments, lawmakers, media, academia, standard-setting groups, transparency associations, technology companies, and other stakeholders with accurate and useful Federal spending and program activity information. Accordingly, Treasury welcomes the views of any public and private stakeholders on the types and forms of data standards that may be appropriate for Treasury and OMB to establish.

II. Context: Data Standards Content, Use, and Application

To assist stakeholders in providing their input, Treasury offers the following context which provides certain detail on the content of the data standards, and how they will be used and applied.

A. The DATA Act provides the data standards “shall include common data elements for financial and payment information to be reported by Federal agencies and entities receiving Federal funds.” 31 U.S.C. 6101, note, 4(a)(2).

B. The DATA Act provides the data standards shall, to the extent reasonable and practicable—

“(1) Incorporate widely accepted common data elements, such as those developed and maintained by—

(A) an international voluntary consensus standards body;

(B) Federal agencies with authority over contracting and financial assistance; and

(C) accounting standards organizations;

(2) incorporate a widely accepted, nonproprietary, searchable, platform-independent computer-readable format;

(3) include unique identifiers for Federal awards and entities receiving Federal awards that can be consistently applied Government-wide;

(4) be consistent with and implement applicable accounting principles;

(5) be capable of being continually upgraded as necessary;

(6) produce consistent and comparable data, including across program activities; and

(7) establish a standard method of conveying the reporting period, reporting entity, unit of measure, and other associated attributes.”

31 U.S.C. 3101, note, 4(b).

C. The DATA Act provides that Treasury and OMB shall ensure the data standards are applied to the data made available on the Web site (i.e., USASpending.gov). 31 U.S.C. 6101, note, § 4(c)(3). The data on the Web site is required to include:

(i) For each Federal award (as defined under 31 U.S.C. 6101, note, § 2(a)(4))—

“(A) the name of the entity receiving the award;

(B) the amount of the award;

(C) information on the award including transaction type, funding agency, the North American Industry Classification System code or Catalog of Federal Domestic Assistance number (where applicable), program source, and an award title descriptive of the purpose of each funding action;

(D) the location of the entity receiving the award and the primary location of performance under the award, including the city, State, congressional district, and country;

(E) a unique identifier of the entity receiving the award and of the parent entity of the recipient, should the entity be owned by another entity;

(F) the names and total compensation of the five most highly compensated officers of the entity if—

(i) the entity in the preceding fiscal year received—

“(I) 80 percent or more of its annual gross revenues in Federal awards; and

“(II) $ 25,000,000 or more in annual gross revenues from Federal awards; and

(ii) the public does not have access to information about the compensation of the senior executives of the entity. . . .”

31 U.S.C. 6101, note, 2(b)(1).

(ii) For any funds made available to or expended by a Federal agency or component of a Federal agency, the information to be posted shall include—

“(1) For each appropriations account, including an expired or unexpired appropriations account, the amount—

(A) of budget authority appropriated;

(B) that is obligated;

(C) of unobligated balances; and

(D) of any other budgetary resources;

(2) From which accounts and in what amount—

(A) appropriations are obligated for each program activity; and

(B) outlays are made for each program activity;

(3) From which accounts and in what amount—

(A) appropriations are obligated for each object class; and

(B) outlays are made for each object class; and

(4) For each program activity, the amount—

(A) obligated for each object class; and

(B) of outlays made for each object class.

31 U.S.C. 6101, note, § 3.

D. The DATA Act provides the Web site (i.e., USASpending.gov):

“(1) May use as the source of its data the Federal Procurement Data System, Federal Assistance Award Data System, and Grants.gov, if all of these data sources are searchable through the Web site and can be accessed in a search on the Web site required by this Act, provided that the user may—

(A) specify such search shall be confined to Federal contracts and subcontracts;

(B) specify such search shall be confined to include grants, subgrants, loans, awards, cooperative agreements, and other forms of financial assistance;

(2) Shall not be considered in compliance if it hyperlinks to the Federal Procurement Data System Web site, Federal Assistance Award Data System Web site, Grants.gov Web site, or other existing Web sites, so that the information elements required by subsection (b)(1) cannot be searched electronically by field in a single search;

(3) Shall provide an opportunity for the public to provide input about the utility of the site and recommendations for improvements;

(4) Shall be updated not later than 30 days after the award of any Federal award requiring a posting;

(5) Shall provide for separate searches for Federal awards described in subsection (a) to distinguish between the Federal awards described in subsection (a)(2)(A)(i) and those described in subsection (a)(2)(A)(ii);

(6) Shall have the ability to aggregate data for the categories described in paragraphs (1) through (5) without double-counting data; and

(7) Shall ensure that all information published under this section is available—

(A) in machine-readable and open formats;

(B) to be downloaded in bulk; and

(C) to the extent practicable, for automated processing.”

31 U.S.C. 6101, note, 2(c).

III. Request for Comments

Treasury is requesting comment from private and public stakeholders on the process described above. Please provide responsive input to the following posed topics and questions. We are also asking for input on whether there are other alternatives to this process that should be considered. We welcome any other input that would inform our consideration of the process:

A. Please describe or provide examples of data standards on data exchange that could ensure the data is “open.” Open in this context means anyone can access, use, or re-use posted information, including the public, Federal agencies, local and state governments, academia, media, industry, standard-setting bodies, transparency groups, on a worldwide scale.

B. What are examples of data standards on data exchange that could ensure that “availability” goals are met? “Availability” in this context means free access to the data standard, both during development, at final stage, and for translations. Availability is assurance that core technologies can be implemented royalty-free.

C. What are examples of data standards on data exchange that could ensure the data provides efficient “business reach” to foster private sector innovation? “Business reach” refers to the global reach of the business community with either local or global integration opportunities. The end points of business reach are regional (business integration remains a regional area of opportunity) or international (business integration has the potential for direct links to the international community).

D. Please describe or provide examples of data standards on data exchange that could ensure the implementation of appropriate “validation” processes. “Validation” in this context means an ongoing process for validation and integration. Validation has spectrum end points that are rules-based or document-based. Rules-based refers to business rules of the data standard which are interwoven into the fabric of the standard output and standard governance body. Document-based end points are business rules separately stored and not entirely contained within the standard output or standard governance body.

E. Please describe or provide examples of data standards on data exchange that could ensure appropriate “extensibility.” “Extensibility” in this context is defined as functionality for flexibility (maintenance) of future modification to the data standard. The end points of the spectrum for these criteria are flexible and rigid. Flexible references extensibility and implementation ease whereas rigid relates to the pliability of the construction and rules integration.

F. Please describe or provide examples of data standards on data exchange that could ensure Ease of Implementation. Ease of Implementation refers to integration and interoperability within a given environment. The related end points are simple (easily integrates into environment) or difficult (integration into environment necessitates extra steps).

G. How would the data standards examples or descriptions on data exchange you provided in A-F above, if implemented, benefit or add value to your constituent group or pertinent stakeholders?

H. What use cases would you anticipate or envision for information with data structured in accordance with established data standards on data exchange?

I. What impact would established and implemented data standards on data exchange have on you, your business, constituent group or pertinent stakeholders, and investments?

J. What other criteria should be considered by Treasury and OMB in establishing the data standards on data exchange?

Kristine C. Conrath,
Deputy Assistant Secretary for Fiscal Operations and Policy.

[FR Doc. 2014-22997 Filed 9-25-14; 8:45 am]

BILLING CODE P